DEPARTMENT OF HEALTH AND HUMAN SERVICES

Centers for Disease Control and Prevention

[30 Day-15-15VA]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

National Disease Surveillance Program III—CDC Support for Case Investigation, Contact Tracing, and Case Reports—New—National Center for Emerging and Zoonotic Infectious Diseases (NCEZID), Centers for Disease Control and Prevention (CDC).

Background and Brief Description

The international outbreak of Ebola virus disease (EVD) in West Africa began March 10, 2014. The initial cases were from southern Guinea, near its rural border with Liberia and Sierra Leone. Highly mobile populations contributed to increasing waves of person-to-person transmission of EVD that occurred in multiple countries in West Africa. The CDC activated its Emergency Operations Center on July 9, 2014 to help coordinate technical assistance and control activities with international partners and to deploy teams of public health experts to the affected countries.

The operations turned to the United States (U.S.) when the first imported case of EVD was diagnosed in Texas on September 30, 2014. In response, on October 11, 2014, the CDC Quarantine Stations and the Department of Homeland Security Customs and Border Patrol mobilized to screen, detect, and refer arriving travelers who were potential persons at risk for EVD to appropriate state, territorial, and local (STL) authorities. The CDC also increased its commitment to support STL public health authorities to combat and control the spread of EVD within their jurisdictions.

Thus in 2014, the CDC requested and received an expedited emergency review and approval from OMB of an information collection request to initiate multiple urgently needed information collections in West Africa, at U.S. ports of entry, and within STL jurisdictions. These information collections allowed the agency to accomplish its primary mission on many fronts to quickly prevent public harm, illness, and death from the uncontrolled spread of EVD.

This new collection of information is designed to allow CDC to conduct active disease surveillance in support of and at the request of STL authorities among respondents that may include the general public, workers, and STL authorities. This should cut down on the need for multiple steps in emergency requests that were experienced in the first year of the 2014 Ebola virus response.

There are no costs to the respondents other than their time. The total annualized burden requested is 14,702 hours.

Estimated Annualized Burden Hours
Type of respondents | Form name | Number of respondents | Number of responses per respondent | Avg. burden per response (in hrs.)
General Public—Case | Ebola Virus Disease Case Investigation Form—United States | 15 | 1 | 30/60
General Public—Case | Symptom Monitoring Form | 15 | 42 | 5/60
General Public—Person Under Investigation (PUI) | Ebola Virus Disease Person Under Investigation (PUI) Form | 300 | 1 | 10/60
General Public—Person Under Investigation (PUI) | Symptom Monitoring Form | 300 | 42 | 5/60
General Public—Contact | Ebola Virus Disease Contact Tracing Form—United States | 105 | 1 | 10/60
General Public—Contact | Symptom Monitoring Form | 105 | 42 | 5/60
Healthcare Workers | Ebola Virus Disease Tracking Form for Healthcare Workers with Direct Patient Contact | 600 | 15 | 10/60
Healthcare Workers | Symptom Monitoring Form | 600 | 57 | 5/60
Laboratory Personnel | Ebola Tracking Form for Laboratory Personnel | 600 | 15 | 10/60
Laboratory Personnel | Symptom Monitoring Form | 600 | 57 | 5/60
Environmental Services Personnel | Ebola Tracking Form for Environmental Services Personnel | 600 | 15 | 10/60
Environmental Services Personnel | Symptom Monitoring Form | 600 | 57 | 5/60
State, Territorial, and Local Public Health Authorities and Their Delegates | White House Evening Report | 15 | 42 | 10/60
Total |  |  |  |

Leroy A. Richardson,
Chief, Information Collection Review Office, Office of Scientific Integrity, Office of the Associate Director for Science, Office of the Director, Centers for Disease Control and Prevention.

[FR Doc. 2015-17554 Filed 7-16-15; 8:45 am]

BILLING CODE 4163-18-P